DEPARTMENT OF THE INTERIOR

Minerals Management Service

[Docket No. MMS-2008-OMM-0030]

MMS Information Collection Activity: 1010-0059, Oil and Gas Production Safety Systems, Extension of a Collection; Submitted for Office of Management and Budget (OMB) Review; Comment Request

AGENCY: Minerals Management Service (MMS), Interior.

ACTION: Notice of extension of an information collection (1010-0059).

SUMMARY: To comply with the Paperwork Reduction Act of 1995 (PRA), we are notifying the public that we have submitted to OMB an information collection request (ICR) to renew approval of the paperwork requirements in the regulations under 30 CFR 250, subpart H, Oil and Gas Production Safety Systems. This notice also provides the public a second opportunity to comment on the paperwork burden of these regulatory requirements.

DATE: Submit written comments by January 20, 2009.

ADDRESSES: You should submit comments directly to the Office of Information and Regulatory Affairs, OMB, Attention: Desk Officer for the Department of the Interior (1010-0059), either by fax (202) 395-6566 or e-mail (OIRA_DOCKET@omb.eop.gov).

Please also send a copy to MMS by either of the following methods:

• http://www.regulations.gov. Under the tab More Search Options, click Advanced Docket Search, then select Minerals Management Service from the agency drop-down menu, then click submit. In the Docket ID column, select MMS-2008-OMM-0030 to submit public comments and to view supporting and related materials available for this rulemaking. Information on using Regulations.gov, including instructions for accessing documents, submitting comments, and viewing the docket after the close of the comment period, is available through the site's User Tips link. Submit comments to regulations.gov by January 20, 2009. The MMS will post all comments.

• Mail or hand-carry comments to the Department of the Interior; Minerals Management Service; Attention: Cheryl Blundon; 381 Elden Street, MS-4024; Herndon, Virginia 20170-4817. Please reference Information Collection 1010-0059 in your subject line and mark your message for return receipt. Include your name and return address in your message text.

FOR FURTHER INFORMATION CONTACT: Cheryl Blundon, Regulations and Standards Branch, (703) 787-1607. You may also contact Cheryl Blundon to obtain a copy, at no cost, of the regulation that requires the subject collection of information.

SUPPLEMENTARY INFORMATION: Title: 30 CFR Part 250, Subpart H, Oil and Gas Production Safety Systems.

OMB Control Number: 1010-0059.

Abstract: The Outer Continental Shelf (OCS) Lands Act, as amended (43 U.S.C. 1331 et seq. and 43 U.S.C. 1801 et seq.), authorizes the Secretary of the Interior (Secretary) to prescribe rules and regulations to manage the mineral resources of the OCS. Such rules and regulations will apply to all operations conducted under a lease, right-of-use and easement, and pipeline right-of-way. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

Regulations implementing these responsibilities are under 30 CFR part 250, subpart H. Responses are submitted to MMS on occasion and are mandatory. No questions of a sensitive nature are asked. The MMS protects proprietary information according to the Freedom of Information Act (5 U.S.C. 552) and its implementing regulations (43 CFR Part 2), 30 CFR part 252, OCS Oil and Gas Information Program, and 30 CFR 250.197, Data and information to be made available to the public or for limited inspection.

The MMS uses the information collected under subpart H to evaluate equipment and/or procedures that lessees and/or operators propose to use during production operations, including evaluation of requests for departures or use of alternative procedures. Information is also used to verify that production operations are safe and protect the human, marine, and coastal environment. The MMS inspectors review the records maintained to verify compliance with testing and minimum safety requirements.

Frequency: On occasion.

Estimated Number and Description of Respondents: Approximately 130 potential Federal oil or gas or sulphur lessees and/or operators.

Estimated Reporting and Recordkeeping Hour Burden: The estimated annual hour burden for this information collection is a total of 47,021 hours. The following chart details the individual components and estimated hour burdens. In calculating the burdens, we assumed that respondents perform certain requirements in the normal course of their activities. We consider these to be usual and customary and took that into account in estimating the burden.

Citation 30 CFR 250 subpart H and NTL(s) | Reporting and recordkeeping requirement | Non-hour cost burdens: Hour burden | Non-hour cost burdens: Average No. of annual responses | Non-hour cost burdens: Annual burden hours
Submittals
800; 801; 802; 803 | Submit application for a production safety system with > 125 components | 8 | 2 | 16.
|  | $5,030 per submission × 2 = $10,060; $13,238 per offshore visit × 2 = $26,476; $6,884 per shipyard visit × 1 = $6,884.
| 25-125 components | 7 | 21 | 147.
|  | $1,218 per submission × 21 = $25,578; $8,313 per offshore visit × 8 = $66,504; $4,766 per shipyard visit × 1 = $4,766.
| < 25 components | 6 | 76 | 456.
|  | $604 per submission × 76 = $45,904.
| Submit modification to application for production safety system with > 125 components | 4 | 324 | 1,296.
|  | $561 per submission × 324 = $181,764.
| 25-125 components | 3.5 | 188 | 658.
|  | $201 per submission × 188 = $37,788.
| < 25 components | 3 | 901 | 2,703.
|  | $85 per submission × 901 = $76,585.
801(a) | Submit application for a determination that a well is incapable of natural flow | 3 | 50 | 150.
803(b)(2) | Submit required documentation for unbonded flexible pipe | Burden is covered by the application requirement in § 250.802(e). |  | 0.
803(b)(8); related NTLs | Request approval to use chemical only fire prevention and control system in lieu of a water system | 8 | 150 | 1,200.
804; related NTL | Submit copy of state-required Emergency Action Plan (EAP) containing test abatement plans (Pacific OCS Region) | 1 | 7 | 7.
NTL | Plan (EAP) containing test abatement plans (Pacific OCS Region)
Subtotal | 1,719 responses | 6,633 hours.
| $482,309.
General
801(h)(2); 803(c) | Identify well with sign on wellhead that subsurface safety device is removed; flag safety devices that are out of service | Usual/customary safety procedure for removing or identifying out-of-service safety devices. |  | 0.
803(b)(8)(iv); (v) | Post diagram of firefighting system; furnish evidence firefighting system suitable for operations in subfreezing climates | 2 | 95 | 190.
804(a)(12); 800 | Notify MMS prior to production when ready to conduct pre-production test and upon commencement for a complete inspection | ¾ | 208 | 156.
806(c) | Request evaluation and approval of other quality assurance programs covering manufacture of SPPE | 2 | 1 | 2.
Subtotal | 304 responses | 348 hours.
Recordkeeping
801(h)(2); 802(e); 804(b) | Maintain records on subsurface and surface safety devices to include approved design & installation features, testing, repair, removal, etc | 20 | 770 | 15,400.
803(b)(1)(iii), (2)(i) | Maintain pressure-recorder charts | 17 | 770 | 13,090.
803(b)(4)(iii) | Maintain schematic of the emergency shutdown (ESD) which indicates the control functions of all safety devices | 9 | 770 | 6,930.
803(b)(11) | Maintain records of wells that have erosion-control programs and results for 2 years; make available to MMS upon request | 6 | 770 | 4,620.
Subtotal | 3,080 responses | 40,040 hours.
Total Burden Hours | 5,103 responses | 47,021 hours.
| $482,309 non-hour burden costs.
* Due to rulemaking (August 25, 2008, 73 FR 49942) cost recovery fees increased, effective 9/24/08.

Estimated Reporting and Recordkeeping Non-Hour Cost Burden: We have identified 10 non-hour cost burdens, all of which are the cost recovery fees required under § 250.802(e). However, note that the actual fee amounts are specified in 30 CFR 250.125, which provides a consolidated table of all of the fees required under the 30 CFR part 250 regulations. The total of the non-hour cost burden (cost recovery fees) in this IC request is an estimated $482,309.

The non-hour cost burdens required in 30 CFR part 250, subpart H (and respective cost-recovery fee amount per transaction) are required as follows:

• Submit application for a production safety system with > 125 components—$5,030 per submission; $13,238 per offshore visit; and $6,884 per shipyard visit.

• Submit application for a production safety system with 25-125 components—$1,218 per submission; $8,313 per offshore visit; and $4,766 per shipyard visit.

• Submit application for a production safety system with < 25 components—$604 per submission.

• Submit modification to application for production safety system with > 125 components—$561 per submission.

• Submit modification to application for production safety system with 25-125 components—$201 per submission.

• Submit modification to application for production safety system with < 25 components—$85 per submission.

We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on June 18, 2008, we published a Federal Register notice (73 FR 34787) announcing that we would submit this ICR to OMB for approval. The notice provided the required 60-day comment period. In addition, § 250.199 provides the OMB control number for the information collection requirements imposed by the 30 CFR part 250, subpart H regulation. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by January 20, 2009.

Public Availability of Comments: Before including your address, phone number, email address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: October 8, 2008.
E.P. Danenberger,
Chief, Office of Offshore Regulatory Programs.

[FR Doc. E8-29740 Filed 12-17-08; 8:45 am]

BILLING CODE 4310-MR-P